FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201348-003.

Agreement Name: APL/SWIRE Guam, Saipan—S. Korea, Japan Slot Charter Agreement.

Parties: American Presidents Lines, LLC; Swire Shipping Pte. Ltd.

Filing Party: Conte Cicala, Clyde & Co. US LLP.

Synopsis: The Amendment modifies the amount of space being chartered under the Agreement.

Proposed Effective Date: 4/10/2023.

Location: https://www2.fmc.gov/FMC.Agreements.Web/Public/AgreementHistory/34502.

Agreement No.: 201403.

Agreement Name: SSPL/NPDL Slot Charter Agreement.

Parties: Neptune Pacific Direct Line Pte. Ltd.; Swire Shipping Pte. Ltd.

Filing Party: Matthew Thomas, Blank Rome.

Synopsis: The Agreement would authorize Swire Shipping to charter space to Neptune Pacific Direct Line in the trade between the United States (including American Samoa) on the one hand, and Tahiti, Samoa, Tonga, Fiji, Australia and New Zealand on the other hand.

Proposed Effective Date: 5/27/2023.

Location: https://www2.fmc.gov/FMC.Agreements.Web/Public/AgreementHistory/79503.

Dated: April 14, 2023.
JoAnne O'Bryant,
Program Analyst.

[FR Doc. 2023-08253 Filed 4-18-23; 8:45 am]

BILLING CODE 6730-02-P